DEPARTMENT OF TRANSPORTATION

Federal Aviation Administration

First Meeting: RTCA Special Committee 227, Standards of Navigation Performance

AGENCY: Federal Aviation Administration (FAA), U.S. Department of Transportation (DOT).

ACTION: Notice of RTCA Special Committee 227, Standards of Navigation Performance.

SUMMARY: The FAA is issuing this notice to advise the public of the first meeting of RTCA Special Committee 227, Standards of Navigation Performance

DATES: The meeting will be held March 6-8, 2012, from 9 a.m.-5 p.m.

ADDRESSES: The meeting will be held at RTCA, Inc., 1150 18th Street NW., Suite 910, Washington, DC, 20036

FOR FURTHER INFORMATION CONTACT: The RTCA Secretariat, 1150 18th Street NW., Suite 910, Washington, DC, 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 227. The agenda will include the following:

March 6-8

• Welcome, Introductions, and Administrative Remarks

• Agenda Overview

• RTCA Overview

• Background on RTCA, MASPS/MOPS, and Process

• Standards of Navigation Performance—Background/History

• Review of SC 181 Products and Intended Applications

• Walk through of DO-236B and DO-283A

• Review of Evolving NextGen Concepts Relating to Navigation Performance Leading to the Need To Update Standards

• Committee Scope and Terms of Reference Overview

• Organization of Work, Assign Tasks, and Workgroups

• Review of Work Plan and Schedule

• Breakout Discussions as Appropriate

• Assignment of Responsibilities

• Any Other Business

• Establish Agenda for Next Meeting

• Date and Place of Next Meeting

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 30, 2012.
John Raper,
Manager, Business Operations Branch, Federal Aviation Administration.

[FR Doc. 2012-2487 Filed 2-2-12; 8:45 am]

BILLING CODE 4910-13-P